DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Center for Substance Abuse Prevention's (CSAP) “Talk. They Hear You.” Screen 4 Success Instruments and Consent Form. (Office of Management [OMB] No. 0930-XXXX)

SAMHSA is requesting approval for its “Talk. They Hear You.” media campaign's “Screen 4 Success” Consent Form and Screener. The “Talk. They Hear You.” campaign aims to reduce underage drinking and substance use among youths under the age of 21 by providing parents and caregivers with information and resources they need to address alcohol and other drug use with their children early. The new “Talk. They Hear You.” campaign's “Screen 4 Success” mobile app is an interactive tool to help parents and caregivers, educators, and communities get informed, be prepared, and take action to prevent underage drinking and other drug use. Specifically, it provides these groups with the ability to self-screen and self-manage referrals as a prevention service. Parents have a significant influence in their children's decisions to experiment with alcohol and other drugs.

SAMHSA and its Centers will use the data for annual reporting: (1) Reporting results of the campaign's performance, (2) evaluating the effectiveness of the application and its utility and (3) assessing the accountability and performance of this component and the overall media campaign, including a focus on health equity.

The tools reflect CSAP's desire to elicit pertinent participant level data that can be used to not only guide future programs and practice, but also respond to stakeholder, congressional and agency inquiries. For a more in-depth review of the screener and consent form, please see Attachments A-C.

This information will be used by SAMHSA to help improve the accountability and performance of its “Talk. They Hear You.” program and social media campaign (each of which refer to this component and other resources). Specifically, the program evaluators will use the information collected through this request to generate annual performance reports that assess the impact of this SAMHSA program outcomes. This information will also be used to inform recommendations regarding future programming should the program continue to be funded.

The information collected from these forms is captured by the “Screen 4 Success” mobile app and made available to the “Talk. They Hear You.” media campaign evaluators in real time. Approval of this data collection activity will allow SAMHSA to continue to assist those under the age of 21, and parents to screen themselves, the parents and client in identifying individuals that may need further assessment or intervention for the alcohol use, drug use, suicide prevention, and other mental health needs. Many of these issues occur at the same time in youth and require referral to co-occurring programs so there is significant value in screening quickly for all of them at the same time. By implementing this screener, we hope to be able to divert individuals who might be at risk of alcohol dependence and these other problems to effective programs and services.

SAMHSA tool | Number of respondents | Responses per respondent | Total number of responses | Burden hours per response | Total burden hours | Estimated hourly wage ¹ | Total hour cost
Parent/Guardian Consent | 100,000 | 1 | 100,000 | 0.04 | 10,000 | $26.92 | $107,680
Youth Assent Forms | 100,000 | 1 | 100,000 | 0.04 | 10,000 | 26.92 | 107,680
Screener | 100,000 | 1 | 100,000 | 0.30 | 60,000 | 26.92 | 807,600
CSAP Total | 300,000 |  | 300,000 |  | 38,000 | 26.92 | 1,022,960
¹ The information is collected via and online application and does not require project staff to administer the consent or screener. The application has internal checks to ensure appropriate completion. The hourly wage estimate is $26.92 based on the Occupational Employment and Wages, Mean Hourly Wage Rate for 19-4061 Social Science Research Assistants as of 10/21/2021. (http://www.bls.gov/oes/current/oes211011.htm. Accessed on October 21, 2021.)

Send comments to Carlos D. Graham, SAMHSA Reports Clearance Officer, 5600 Fishers Lane, Room 15E57-A, Rockville, Maryland 20857, OR email a copy to Carlos.Graham@samhsa.hhs.gov. Written comments should be received by June 21, 2022.

Carlos Graham,
Reports Clearance Officer.

[FR Doc. 2022-08301 Filed 4-18-22; 8:45 am]

BILLING CODE 4162-20-P